DEPARTMENT OF TRANSPORTATION

Federal Aviation Administration

14 CFR Part 71

[Docket No. FAA-2025-0141; Airspace Docket No. 24-AGL-23]

RIN 2120-AA66

Amendment of VOR Federal Airways V-55, V-100, and V-277 in the Vicinity of Keeler, MI

AGENCY: Federal Aviation Administration (FAA), DOT.

ACTION: Final rule.

SUMMARY: This action amends Very High Frequency Omnidirectional Range (VOR) Federal Airways V-55, V-100, and V-277. The FAA is taking this action due to the planned decommissioning of the VOR portion of the Keeler (ELX), MI, VOR/Distance Measuring Equipment (VOR/DME) navigational aid (NAVAID). The Keeler VOR is being decommissioned in support of the FAA's VOR Minimum Operational Network (MON) program.

DATES: Effective date 0901 UTC, November 27, 2025. The Director of the Federal Register approves this incorporation by reference action under 1 CFR part 51, subject to the annual revision of FAA Order JO 7400.11 and publication of conforming amendments.

ADDRESSES: A copy of the notice of proposed rulemaking (NPRM), all comments received, this final rule, and all background material may be viewed online at www.regulations.gov using the FAA Docket number. Electronic retrieval help and guidelines are available on the website. It is available 24 hours each day, 365 days each year. An electronic copy of this document may also be downloaded from the Office of the Federal Register's website at www.federalregister.gov.

FAA Order JO 7400.11J, Airspace Designations and Reporting Points, and subsequent amendments can be viewed online at www.faa.gov/air_traffic/publications/. You may also contact the Rules and Regulations Group, Policy Directorate, Federal Aviation Administration, 600 Independence Avenue SW, Washington, DC 20597; telephone: (202) 267-8783.

FOR FURTHER INFORMATION CONTACT: Brian Vidis, Rules and Regulations Group, Policy Directorate, Federal Aviation Administration, 600 Independence Avenue SW, Washington, DC 20597; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the National Airspace System as necessary to preserve the safe and efficient flow of air traffic.

History

The FAA published an NPRM for Docket No. FAA-2025-0141 in the Federal Register (90 FR 11592; March 10, 2025), proposing to amend VOR Federal Airways V-55, V-100, and V-277 due to the planned decommissioning of the VOR portion of the Keeler, MI, VOR/DME NAVAID. Interested parties were invited to participate in this rulemaking effort by submitting written comments on the proposal to the FAA. No comments were received.

Incorporation by Reference

VOR Federal Airways are published in paragraph 6010(a) of FAA Order JO 7400.11, Airspace Designations and Reporting Points, which is incorporated by reference in 14 CFR 71.1 on an annual basis. This document amends the current version of that order, FAA Order JO 7400.11J, dated July 31, 2024, and effective September 15, 2024. These amendments will be published in the next update to FAA Order JO 7400.11. FAA Order JO 7400.11J, which lists Class A, B, C, D, and E airspace areas, air traffic service routes, and reporting points, is publicly available as listed in the ADDRESSES section of this document.

The Rule

This action amends 14 CFR part 71 by amending VOR Federal Airways V-55, V-100, and V-277 due to the planned decommissioning of the VOR portion of the Keeler, MI, VOR/DME NAVAID. The airway actions are described below.

V-55: Prior to this final rule, V-55 extended between the Dayton, OH, VOR/DME and the Pullman, MI, VOR/DME; and between the Grand Forks, ND, VOR/DME and the Bismarck, ND, VOR/DME. The airway segment between the Gipper, MI, VOR/Tactical Air Navigation (VORTAC) and the Pullman VOR/DME is removed. As amended, the airway is changed to now extend between the Dayton VOR/DME and the Gipper VORTAC, and between the Grand Forks VOR/DME and the Bismarck VOR/DME.

V-100: Prior to this final rule, V-100 extended between the Medicine Bow, WY, VOR/DME and the O'Neill, NE, VORTAC; between the Waterloo, IA, VOR/DME and the Dubuque, IA, VORTAC; and between the Northbrook, IL, VOR/DME and the Keeler, MI, VOR/DME. The airway segment between the Northbrook VOR/DME and the Keeler VOR/DME is removed. As amended, the airway is changed to now extend between the Medicine Bow VOR/DME and the O'Neill VORTAC, and between the Waterloo VOR/DME and the Dubuque VORTAC.

V-277: Prior to this final rule, V-277 extended between the Rosewood, OH, VORTAC and the Keeler, MI, VOR/DME. The airway segment between the Fort Wayne, IN, VORTAC and the Keeler VOR/DME is removed. As amended, the airway is changed to now extend between the Rosewood VORTAC and the Fort Wayne VORTAC.

The NAVAID radials listed in the V-55 description in the regulatory text of this final rule are unchanged and stated in degrees True north.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action amending VOR Federal Airways V-55, V-100, and V-277 due to the planned decommissioning of the VOR portion of the Keeler, MI, VOR/DME NAVAID qualifies for categorical exclusion under the National Environmental Policy Act (42 U.S.C. 4321, et seq.) and in accordance with FAA Order 1050.1G, FAA National Environmental Policy Act Implementing Procedures, paragraph B-2.5(a), which categorically excludes from further environmental impact review rulemaking actions that designate or modify classes of airspace areas, airways, routes, and reporting points (see 14 CFR part 71, Designation of Class A, B, C, D, and E Airspace Areas; Air Traffic Service Routes; and Reporting Points); and paragraph B-2.5(i), which categorically excludes from further environmental review the establishment of new or revised air traffic control procedures conducted at 3,000 feet or more above ground level (AGL); procedures conducted below 3,000 feet AGL that do not cause traffic to be routinely routed over noise sensitive areas; modifications to currently approved procedures conducted below 3,000 feet AGL that do not significantly increase noise over noise sensitive areas; and increases in minimum altitudes and landing minima. As such, this action is not expected to result in any potentially significant environmental impacts. In accordance with the FAA's NEPA implementation policy and procedures regarding extraordinary circumstances, the FAA has reviewed this action for factors and circumstances in which a normally categorically excluded action may have a significant environmental impact requiring further analysis. The FAA has determined that no extraordinary circumstances exist that warrant preparation of an environmental assessment or environmental impact statement.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order JO 7400.11J, Airspace Designations and Reporting Points, dated July 31, 2024, and effective September 15, 2024, is amended as follows:

Paragraph 6010(a) Domestic VOR Federal Airways.

* * * * *

V-55 [Amended]

From Dayton, OH; Fort Wayne, IN; Goshen, IN; to Gipper, MI. From Grand Forks, ND; INT Grand Forks 239° and Bismarck, ND, 067° radials; to Bismarck.

* * * * *

V-100 [Amended]

From Medicine Bow, WY; Scottsbluff, NE; Alliance, NE; Ainsworth, NE; to O'Neill, NE. From Waterloo, IA; to Dubuque, IA.

* * * * *

V-277 [Amended]

From Rosewood, OH; to Fort Wayne, IN.

* * * * *

Issued in Washington, DC, on August 29, 2025.
Brian Eric Konie,
Acting Manager, Rules and Regulations Group.

[FR Doc. 2025-16888 Filed 9-2-25; 8:45 am]

BILLING CODE 4910-13-P